DEPARTMENT OF TRANSPORTATION

Federal Aviation Administration

14 CFR Part 39

[Docket No. FAA-2007-0179; Directorate Identifier 2007-SW-36-AD; Amendment 39-15264; AD 2007-19-52]

RIN 2120-AA64

Airworthiness Directives; Bell Helicopter Textron Canada Limited Model 206A, 206B, 206L, 206L-1, 206L-3, 206L-4, 222, 222B, 222U, 230, 407, 427, and 430 Helicopters

AGENCY: Federal Aviation Administration, DOT.

ACTION: Final rule; request for comments.

SUMMARY: This document publishes in the Federal Register an amendment adopting Airworthiness Directive (AD) 2007-19-52, which was sent previously to all known U.S. owners and operators of the specified Bell Helicopter Textron Canada Limited (BHTC) model helicopters by individual letters. This AD requires replacing each affected tail rotor blade (blade) with an airworthy blade with a serial number not listed in the Rotor Blades, Inc. (RBI), attachment to the BHTC Alert Service Bulletin (ASB), listed in the applicability section of this AD. This amendment is prompted by three incidents in which blade tip weights were slung from blades during flight causing significant vibration. The actions specified are intended to prevent loss of a blade tip weight, loss of a blade, and subsequent loss of control of the helicopter.

DATES: Effective December 5, 2007, to all persons except those persons to whom it was made immediately effective by Emergency AD 2007-19-52, issued on September 14, 2007, which contained the requirements of this amendment.

The incorporation by reference of certain publications listed in the regulations is approved by the Director of the Federal Register as of December 5, 2007.

Comments for inclusion in the Rules Docket must be received on or before January 22, 2008.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron Canada, 12,800 Rue de l'Avenir, Mirabel, Quebec J7J1R4, telephone (450) 437-2862 or (800) 363-8023, fax (450) 433-0272.

Examining the Docket: You may examine the AD docket on the Internet at http://www.regulations.gov; or in person at the Docket Management Facility between 9 a.m. and 5 p.m., Monday through Friday, except Federal holidays. The AD docket contains this AD, the economic evaluation, any comments received, and other information. The street address for the Docket Office (telephone 800-647-5527) is in the ADDRESSES section. Comments will be available in the AD docket shortly after receipt.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION: On September 14, 2007, the FAA issued Emergency AD 2007-19-52 for the specified BHTC model helicopters, which requires replacing each affected part-numbered and serial-numbered blade with an airworthy blade with a serial number not listed in the RBI attachment to the BHTC ASB, listed in the applicability section of this AD. That action was prompted by three incidents in which blade tip weights were slung from the blades during flight causing significant vibration. The failures have occurred on blades being returned to service from RBI, from as short as 12 minutes since repair to as long as 400 hours time-in-service. An investigation indicates that the tip weights were missing the adhesive that should have been applied during the weight-and-balance process on these blades. This condition, if not corrected, could result in loss of a blade tip weight, loss of a blade, and subsequent loss of control of the helicopter.

Transport Canada, the airworthiness authority for Canada, notified the FAA that an unsafe condition may exist on these helicopter models. Transport Canada advises of three reports of balance weights departing from the blades during flight. They also advise that they determined in the investigation that the unsafe condition results from the loss of the tip weights and that the failure can occur at any time.

BHTC has issued the following Alert Service Bulletins (ASBs):

• No. 206-07-116, dated September 11, 2007, for BHTC Model 206 A/B series helicopters;

• No. 206L-07-148, dated September 11, 2007, for BHTC Model 206L series helicopters;

• No. 222-07-106, Revision A, dated September 13, 2007, for BHTC Model 222 and 222B helicopters;

• No. 222U-07-77, Revision A, dated September 13, 2007, for BHTC Model 222U helicopters;

• No. 230-07-38, Revision A, dated September 13, 2007, for BHTC Model 230 helicopters;

• No. 407-07-81, dated September 11, 2007, for BHTC Model 407 helicopters;

• No. 427-07-18, dated September 11, 2007, for BHTC Model 427 helicopters; and

• No. 430-07-41, Revision A, dated September 13, 2007, for BHTC Model 430 helicopters.

All of the ASBs contain a letter from RBI indicating that certain blades processed by RBI may be missing the adhesive applied to the tip weight screws during the weight and balance process. Transport Canada classified the ASBs as mandatory and issued AD No. CF-2007-21, dated September 13, 2007, to ensure the continued airworthiness of these helicopters in Canada.

Paragraph (a) of the AD states that you must replace any affected blade with an airworthy blade with a serial number not listed in the applicability section of this AD. The serial numbers are not directly listed in the applicability section of this AD. The ASBs for the various model helicopters are listed in the applicability section. The affected part and serial numbers are listed in the RBI attachment to each of the BHTC ASBs listed in the applicability section of this AD. We have clarified that language in the AD and have determined that this change will neither increase the economic burden on any operator nor increase the scope of the AD.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

Since the unsafe condition described is likely to exist or develop on other BHTC model helicopters of these same type designs, the FAA issued Emergency AD 2007-19-52 to prevent loss of a blade tip weight, loss of a blade, and subsequent loss of control of the helicopter. The AD requires before further flight, removing and replacing each affected blade with an airworthy blade. The actions must be accomplished for the blade part numbers with serial numbers listed in the RBI attachment to the ASBs described previously. The short compliance time involved is required because the previously described critical unsafe condition can adversely affect the structural integrity and controllability of the helicopter. Therefore, removing and replacing each affected blade with an airworthy blade is required before further flight, and this AD must be issued immediately.

Since it was found that immediate corrective action was required, notice and opportunity for prior public comment thereon were impracticable and contrary to the public interest, and good cause existed to make the AD effective immediately by individual letters issued on September 14, 2007, to all known U.S. owners and operators of the specified BHTC model helicopters. These conditions still exist, and the AD is hereby published in the Federal Register as an amendment to 14 CFR 39.13 to make it effective to all persons.

The FAA estimates that this AD will affect 3741 helicopters of U.S. registry, and it will take about 2 hours to determine if a blade is affected per helicopter at an average labor rate of $80 per work hour. The ASB contains a warranty statement that owners or operators of Bell helicopters who comply with the instructions in the ASB will be eligible to return defective blades identified by serial number in the compliance section to their nearest RBI facility for inspection and repair at no cost. Based on these figures, we estimate the total cost impact of the AD on U.S. operators to be $589,560, assuming all shipping, inspection, and repair costs are paid by RBI or Bell.

Comments Invited

This AD is a final rule that involves requirements that affect flight safety and was not preceded by notice and an opportunity for public comment; however, we invite you to submit any written data, views, or arguments regarding this AD. Send your comments to an address listed under ADDRESSES. Include “Docket No. FAA-2007-0179; Directorate Identifier 2007-SW-36-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of the docket web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2007-19-52 Bell Helicopter Textron Canada Limited: Amendment 39-15264. Docket No. FAA-2007-0179; Directorate Identifier 2007-SW-36-AD.

Applicability: Model 206A, 206B, 206L, 206L-1, 206L-3, 206L-4, 222, 222B, 222U, 230, 407, 427, and 430 helicopters, with a tail rotor blade (blade) having a part number and serial number as listed in the following Bell Helicopter Textron Alert Service Bulletins (ASBs), installed, certificated in any category.

ASB No. | Revision | Date | Helicopter model
206-07-116 |  | September 11, 2007 | 206A and 206B.
206L-07-148 |  | September 11, 2007 | 206L, L-1, L-3, and L-4.
222-07-106 | A | September 13, 2007 | 222 and 222B.
222U-07-77 | A | September 13, 2007 | 222U.
230-07-38 | A | September 13, 2007 | 230.
407-07-81 |  | September 11, 2007 | 407.
427-07-18 |  | September 11, 2007 | 427.
430-07-41 | A | September 13, 2007 | 430.

Compliance: Required as indicated, unless accomplished previously.

To prevent loss of a blade tip weight, loss of a blade, and subsequent loss of control of the helicopter, accomplish the following:

(a) Before further flight, replace any affected blade with an airworthy blade with a serial number not listed in the Rotor Blade, Inc. (RBI), attachment to an ASB listed in the applicability section of this AD.

(b) To request a different method of compliance or a different compliance time for this AD, follow the procedures in 14 CFR 39.19. Contact the Manager, Regulations and Guidance Group, FAA, ATTN: Sharon Miles, Fort Worth, Texas 76193-0111, telephone (817) 222-5122, fax (817) 222-5961, for information about previously approved alternative methods of compliance.

(c) Special flight permits will not be issued.

(d) Each affected blade is identified by serial number as listed in the Rotor Blade, Inc., letter attached to Bell Helicopter Textron Alert Service Bulletin (ASB) Nos. 206-07-116, 206L-07-148, 407-07-81, and 427-07-18, all dated September 11, 2007; and ASB Nos. 222-07-106, 222U-07-77, 230-07-38, and 430-07-41, all Revision A, all dated September 13, 2007. The Director of the Federal Register approved this incorporation by reference in accordance with 5 U.S.C. 552(a) and 1 CFR part 51. Copies may be obtained from Bell Helicopter Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

Note: The subject of this AD is addressed in Transport Canada (Canada) AD No. CF-2007-21, dated September 13, 2007.

(e) This amendment becomes effective on December 5, 2007, to all persons except those persons to whom it was made immediately effective by Emergency AD 2007-19-52, issued September 14, 2007, which contained the requirements of this amendment.

Issued in Fort Worth, Texas, on October 31, 2007.
David A. Downey,
Manager, Rotorcraft Directorate, Aircraft Certification Service.

[FR Doc. E7-22416 Filed 11-19-07; 8:45 am]

BILLING CODE 4910-13-P